DEPARTMENT OF DEFENSE

Department of the Air Force

[Docket ID USAF-2008-0056]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on December 17, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996, (February 20, 1996, 61 FR 6427).

Dated: December 18, 2008.
Morgan E. Frazier,
Alternate OSD Federal Register Liaison Officer, Department of Defense.

F091 AFMC A

System name:

Injury Compensation System (InjuryComp) Records.

System location:

Computerized records maintained in a controlled area accessible only to authorized personnel.

Categories of individuals covered by the system:

Current civilian Federal Government employees located at Robins Air Force Base.

Categories of records in the system:

Individual's name, organization, e-mail, address, phone numbers, grade, date of birth, pay rate and Social Security Number (SSN).

Authority for maintenance of the system:

10 U.S.C. 8013, Secretary of the Air Force; 29 U.S.C. 651, et seq.; The Occupational Safety and Health Act of 1970 (OSHA); E.O. 12196, Occupational Safety and Health Programs for Federal Employees; 29 CFR 1960, Subpart I, Recordkeeping and Reporting Requirements for Federal Occupational Safety and Health Programs; DoD Instruction 6055.1, DoD Safety and Occupational Health (SOH) Program and E.O. 9397 (SSN).

Purpose(s):

The purpose of the Injury Compensation System is to enter and track compensation requests for on-the-job injuries and provide reporting for those claims.

Routine uses of records maintained in the system including categories of users and the purpose of such uses:

In addition to those disclosures generally permitted under 5 U.S.C. 552a(b) of the Privacy Act, these records or information contained therein may specifically be disclosed outside the (DoD) as a routine use pursuant to 5 U.S.C. 552a(b)(3) as follows:

The (DoD) ‘Blanket Routine Uses' published at the beginning of the Air Force's compilation of record system notices apply to this system.

Policies and practices for storing, retrieving, accessing, retaining, and disposing of records in the system:

Storage:

Electronic storage media.

Retrievability:

Individual's name and Social Security Number (SSN).

Safeguards:

Computerized records maintained in a controlled area are accessible only to authorized personnel. Records are maintained in a controlled facility. Physical entry is restricted by the use of locks and is accessible only to authorized personnel. Physical and electronic access is restricted to designated individuals having a need therefore in the performance of official duties and who are properly screened and cleared for need-to-know.

Retention and disposal:

Retain for five years and then destroy by deleting from the servers.

System manager and address:

Department of the Air Force, Director, 78th Communications Group, 205 Perry St, Suite 100, Robins AFB, GA 31098-1607.

Notification procedure:

Individuals seeking to determine whether information about them is contained in this system should address written inquiries to Director, 78th Communications Group, 205 Perry St, Suite 100, Robins AFB, GA 31098-1607.

Requests should contain individual's name and address, telephone, email address and Social Security Number (SSN).

Record access procedures:

Individuals seeking to determine whether information about them is contained in this system should address written inquiries to Director, 78th Communications Group, 205 Perry St, Suite 100, Robins AFB, GA 31098-1607.

Requests should contain individual's name and address, telephone, email address and Social Security Number (SSN).

Contesting records procedures:

The Air Force rules for accessing records, and for contesting contents and appealing initial agency determinations are published in Air Force Instruction 33-332; 32 CFR part 806b; or may be obtained from the system manager.

Record source categories:

Individuals.

Exemptions claimed for the system:

None.

[FR Doc. E8-30888 Filed 12-29-08; 8:45 am]

BILLING CODE 5001-06-P